DEPARTMENT OF HOMELAND SECURITY

Coast Guard

[Docket No. USCG-2016-0656]

Great Lakes Pilotage Advisory Committee; Vacancies

AGENCY: Coast Guard, Department of Homeland Security.

ACTION: Request for applications.

SUMMARY: The Coast Guard seeks applications for membership on the Great Lakes Pilotage Advisory Committee. The Great Lakes Pilotage Advisory Committee provides advice and makes recommendations to the Secretary of Homeland Security through the Coast Guard Commandant on matters relating to Great Lakes pilotage, including review of proposed Great Lakes pilotage regulations and policies.

DATES: Completed applications should reach the Coast Guard on or before August 22, 2016.

ADDRESSES: Applicants should send a cover letter expressing interest in an appointment to the Great Lakes Pilotage Advisory Committee that also identifies which membership category the applicant is applying under, along with a resume detailing the applicant's experience via one of the following methods:

• By Email: Michelle.R.Birchfield@uscg.mil.

• By Fax: (202) 372-8387, ATTN: Ms. Michelle Birchfield.

• By Mail: Commandant (CG-WWM-2), U.S. Coast Guard, Attention: Ms. Michelle Birchfield, Alternate Designated Federal Officer, Great Lakes Pilotage Advisory Committee, 2703 Martin Luther King Jr. Ave. SE., Stop 7509, Washington, DC 20593-7509.

FOR FURTHER INFORMATION CONTACT: Ms. Michelle Birchfield, Great Lakes Pilotage Advisory Committee Alternate Designated Federal Officer, 2703 Martin Luther King Jr. Ave. SE., Stop 7509, Washington, DC 20593-7509; telephone 202-372-1537, fax 202-372-8387, or email at Michelle.R.Birchfield@uscg.mil.

SUPPLEMENTARY INFORMATION: The Great Lakes Pilotage Advisory Committee is a federal advisory committee established in accordance with the provisions of the Federal Advisory Committee Act (5 U.S.C., Appendix). The Great Lakes Pilotage Advisory Committee operates under the authority of 46 U.S.C. 9307, and makes recommendations to the Secretary and the Coast Guard on matters relating to the Great Lakes.

Meetings of the Great Lakes Pilotage Advisory Committee will be held with the approval of the Designated Federal Officer. The Committee is required to meet at least once per year. Additional meetings may be held at the request of a majority of the Committee or at the discretion of the Designated Federal Officer. Further information about the Great Lakes Pilotage Advisory Committee is available by going to the Web site: https://www.facadatabase.gov. Click on the search tab and type “Great Lakes” into the search form. Then select “Great Lakes Pilotage Advisory Committee” from the list.

Individuals shall serve terms of office of three years and may be reappointed to one additional term, serving not more than six consecutive years. All members serve at their own expense but may receive reimbursement for travel and per diem from the Federal Government.

We will consider applicants for two positions that expire or become vacant on September 30, 2016.

• One member representing the interests of Great Lakes ports, and

• One member representing the interests of shippers whose cargoes are transported through Great Lakes ports.

To be eligible, applicants shall have at least five years of practical experience in maritime operations.

The Department of Homeland Security does not discriminate in selection of Committee members on the basis of race, color, religion, sex, national origin, political affiliation, sexual orientation, gender identity, marital status, disability and genetic information, age, membership in an employee organization, or other non-merit factor. The Department of Homeland Security strives to achieve a widely diverse candidate pool for all of its recruitment actions.

If you are interested in applying to become a member of the Committee, send your cover letter and resume to Ms. Michelle Birchfield, Alternate Designated Federal Officer of the Great Lakes Pilotage Advisory Committee via one of the transmittal methods in the ADDRESSES section by the deadline in the DATES section of this notice. Email submittals will receive email receipt confirmation.

Dated: July 14, 2016.
J.G. Lantz,
U.S. Coast Guard, Director of Regulations and Standards.

[FR Doc. 2016-17239 Filed 7-20-16; 8:45 am]

BILLING CODE 9110-04-P